DEPARTMENT OF ENERGY

Federal Energy Regulatory Commission

[Docket Nos. PL01-5-000 and RM99-2-000]

Conference on RTO Interregional Coordination; Regional Transmission Organizations; Notice of Technical Conference and Change in Docket Designation

May 31, 2001.

On December 15, 2000, the Electric Power Supply Association, et al., filed a motion requesting the Commission to convene a technical conference to provide guidance on implementation of Function 8 of Order No. 2000—Interregional Coordination, as it applies to Regional Transmission Organizations (RTOs). By notice issued March 28, 2001, in Docket No. RM99-2-000, comments were sought on this motion.

Take notice that a technical conference will be held on June 19, 2001, at 10 a.m., in a room to be designated, at the offices of the Federal Energy Regulatory Commission, 888 First Street, NE., Washington, DC 20426. All future actions with respect to this conference will be taken under Docket No. PL01-5-000.

The purpose of the conference will be to discuss interregional coordination between RTOs. All interested parties and Staff are permitted to attend. Anyone interested in making a statement at this conference should file a request to speak in Docket No. PL01-5-000 no later than June 8, 2001. Further details about the conference will be provided in a subsequent notice.

David P. Boergers,
Secretary.

[FR Doc. 01-14216 Filed 6-5-01; 8:45 am]

BILLING CODE 6717-01-M